DEPARTMENT OF AGRICULTURE

Food and Nutrition Service

Agency Information Collection Activities: Proposed Collection; Comment Request—WIC Farmers’ Market Nutrition Program (FMNP) Financial Report (Form FNS-683); WIC Farmers' Market Nutrition Program Recipient Report (Form FNS-203); and WIC Farmers' Market Nutrition Program Regulations

AGENCY: Food and Nutrition Service (FNS), USDA.

ACTION: Notice.

SUMMARY: In accordance with the Paperwork Reduction Act of 1995, this notice announces the intention of FNS to request revisions to currently approved information collections in the WIC Farmers' Market Nutrition Program Financial Report (Form FNS-683); WIC Farmers' Market Nutrition Program Recipient Report (Form FNS-203); and WIC Farmers' Market Nutrition Program Regulations.

DATES: Written comments must be received by December 20, 2004.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to Debra R. Whitford, Chief, Policy and Program Development Branch, Supplemental Food Programs Division, Food and Nutrition Service, U.S. Department of Agriculture, 3101 Park Center Drive, Room 522, Alexandria, Virginia 22302. Comments may also be submitted via fax to the attention of Debra R. Whitford at (703) 305-2196 or via e-mail to wichq-web@fns.usda.gov. In all cases, including when comments are sent via e-mail, please label your comments as “Proposed Collection of Information: WIC Farmers' Market Nutrition Program.”

All written comments will be open for public inspection at the office of the Food and Nutrition Service during regular business hours (8:30 a.m. to 5 p.m. Monday through Friday) at 3101 Park Center Drive, Room 522, Alexandria, Virginia 22302.

All responses to this notice will be summarized and included in the request for OMB approval, and will become a matter of public record.

FOR FURTHER INFORMATION CONTACT: Requests for additional information or copies of the information collection form and instructions should be directed to: Debra Whitford, (703) 305-2746.

SUPPLEMENTARY INFORMATION: Title: The WIC Farmers' Market Nutrition Program Financial Report (Form FNS-683); WIC Farmers' Market Nutrition Program Recipient Report (Form FNS-203); and WIC Farmers' Market Nutrition Program Regulations.

OMB Number: 0584-0447.

Form Numbers: Form FNS-683, Form FNS-203, and the WIC Farmers' Market Nutrition Program Regulations.

Expiration Date: February 28, 2005.

Type of Request: Revision to a Currently Approved Collection Form.

Abstract: Pursuant to Section 17(m)(8) of the Child Nutrition Act of 1966, 42 U.S.C. 1786(m)(8), 7 CFR 248.23 of the WIC Farmers' Market Nutrition Program (FMNP) regulations requires that certain Program-related information be compiled and submitted to FNS. Each State agency administering the FMNP is required to use FNS-683 and FNS-203 to report financial and participation data to the Secretary as required by 7 CFR part 3016. FNS will use this information for funding and program management decisions. Based on the previous submission of reporting and recordkeeping requirements for the FMNP, 41 State agencies administered the program, including the authorization of 1,622 farmers' markets to accept FMNP coupons. Due to program growth, currently 44 State agencies administer the program, including the authorization of 2,259 farmers' markets, 15,241 farmers, and 1,339 roadside stands authorized to accept FMNP coupons (for a total of 18,839 authorized entities). No new program requirements have been added to change or increase the number of hours per response. Therefore, based on an increase in respondents, and an increased information collection burden on respondents, a revision to the reporting and recordkeeping burden is necessary.

Form FNS-683 Reporting Burden: See chart below.

Form FNS-203 Reporting Burden: See chart below.

FMNP Regulations Reporting Burden: See chart below.

Recordkeeping Burden: See chart below.

Total Reporting and Recordkeeping Burden: See chart below.

BILLING CODE 3410-30-P

Dated: October 13, 2004.
Roberto Salazar,
Administrator, Food and Nutrition Service.

[FR Doc. 04-23420 Filed 10-19-04; 8:45 am]

BILLING CODE 3410-30-C